DEPARTMENT OF TRANSPORTATION

Federal Aviation Administration

14 CFR Part 39

[Docket No. FAA-2006-25891; Directorate Identifier 2006-NM-186-AD; Amendment 39-14908; AD 2007-02-21]

RIN 2120-AA64

Airworthiness Directives; Airbus Model A300 Airplanes; and Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: The FAA is adopting a new airworthiness directive (AD) for certain Airbus Model A300 airplanes; and Model A300 B4-600, B4-600R, and F4-600R series airplanes, and Model C4-605R Variant F airplanes (collectively called A300-600 series airplanes). This AD requires replacing the pressure limiter of the parking brake system with a new or modified pressure limiter. This AD results from a report indicating that failure of the parking brake system occurred on a Model A300-600 airplane. We are issuing this AD to prevent failure of the parking brake system and interference with emergency use of the brake pedals, which could lead to airplane collision with surrounding objects or departure from the runway.

DATES: This AD becomes effective March 2, 2007.

The Director of the Federal Register approved the incorporation by reference of certain publications listed in the AD as of March 2, 2007.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 and A310 airplanes; and Model A300 B4-600, B4-600R, and F4-600R series airplanes, and Model C4-605R Variant F airplanes (collectively called A300-600 series airplanes). That NPRM was published in the Federal Register on September 26, 2006 (71 FR 56054). That NPRM proposed to require replacing the pressure limiter of the parking brake system with a new or modified pressure limiter.

Comments

We provided the public the opportunity to participate in the development of this AD. We have considered the comments received.

Request To Refer To Revised Service Information

Airbus has informed us that the applicable service bulletins identified in the NPRM have all been reissued at Revision 01, and requests that we revise the NPRM to refer to Airbus Service Bulletins A300-32-0448 and A300-32-6094, both Revision 01, both dated October 26, 2006. However, Airbus has determined that the subject modification is incompatible with Model A310 airplanes and informed the European Aviation Safety Agency (EASA) of this situation. Airbus states that:

• EASA intends to revise EASA airworthiness directive 2006-0178, dated June 26, 2006, to remove Model A310 airplanes from the effectivity;

• Airbus intends to issue a new revision of Service Bulletin A310-32-2133 with a revised modification for Model A310 airplanes; and

• EASA intends to issue a new airworthiness directive to address the revised issue of Service Bulletin A310-32-2133 and to mandate the revised modification for Model A310 airplanes.

Airbus therefore requests that we remove all references to Model A310 airplanes from the effectivity of the NPRM and Service Bulletin A310-32-2133, dated February 2, 2006, from the NPRM.

We agree for the reasons stated. We have removed all references to Model A310 airplanes and Service Bulletin A310-32-2133 from the summary, estimated costs, applicability, and body of the AD. Further, we have reviewed Service Bulletins A300-32-0448 and A300-32-6094, both Revision 01, both dated October 2, 2006. Certain airplanes have been removed and the operator listings have been updated in the effectivities of the revised service bulletins, but no new work is described. As these changes are relieving in nature and reduce the number of affected airplanes, we have determined that it is not necessary to provide additional time for public comment. Therefore, we have changed Table 1 of paragraph (f) of the AD to reflect the revised service bulletins. We have also added new paragraph (g) to the AD to give credit for actions accomplished before the effective date of the AD in accordance with the original issues of the service bulletins and re-identified the subsequent paragraphs of the AD accordingly. In regard to Model A310 airplanes, when Airbus and EASA have issued revised documentation, we may consider further rulemaking then.

Request To Refer to EASA Airworthiness Directive

One commenter, Lufthansa Technik AG, requests that we refer to EASA airworthiness directive 2006-0178, dated June 26, 2006, in the AD. The commenter states that it would be helpful for European airlines if we specified that the content of the NPRM already appears in the EASA airworthiness directive and that accomplishing the requirements of the EASA airworthiness directive is acceptable for compliance with the requirements of the AD.

We partially agree. Paragraph (i), “Related Information,” of the NPRM (paragraph (j) of the final rule), identifies EASA airworthiness directive 2006-0178, dated June 26, 2006, as being related to the subject of this AD; the NPRM was written to directly reflect the content of the EASA airworthiness directive. While airplanes placed on the U.S. Register must comply with this AD, airplanes placed on European registries must comply with the EASA airworthiness directive. No change to the AD is needed in this regard.

Request To Change Incorporation of Certain Information

One commenter, the Modification and Replacement Parts Association (MARPA), requests that we revise our procedures for incorporation by reference (IBR) of service information in ADs. MARPA asserts that ADs are frequently derived from privately-authored, copyright-protected manufacturer service documents, but that when such a document is incorporated by reference into a public document like an AD, it loses its private, protected status and becomes itself a public document. MARPA continues, stating that public laws by definition must be public and cannot rely for compliance upon private writings, and that unless such writings are incorporated by reference, a court of law will not consider them in interpreting the AD and might invalidate the AD. MARPA contends that IBR service documents should be published in the Docket Management System (DMS), keyed to the action that incorporates them. MARPA states that IBR was adopted to relieve the Office of the Federal Register (OFR) from publishing documents already held by affected individuals, which traditionally meant aircraft owners and operators who received service information from manufacturers. However, MARPA contends that a new affected class of maintenance and repair organizations (MRO), component service and repair shops, parts purveyors and distributors, and organizations that manufacture or service alternatively certified parts under section 21.303 of the Federal Aviation Regulations (14 CFR 21.303) now perform a majority of aircraft maintenance. MARPA continues, stating that service information distributed to owners and operators who are financing or leasing institutions may not reach this class, who may actually be responsible for accomplishing ADs. MARPA therefore requests that service documents deemed essential to accomplishing this proposed action be (1) incorporated by reference into the regulatory instrument, and (2) published in the DMS.

We understand MARPA's comment and its requests. The OFR requires that documents that are necessary to accomplish the requirements of the AD be incorporated by reference during the final rule phase of rulemaking. This final rule incorporates by reference the documents necessary for the accomplishment of the requirements mandated by this AD. Further, we point out that while documents that are incorporated by reference do become public information, they do not lose their copyright protection. For that reason, we advise the public to contact the manufacturer to obtain copies of the referenced service information.

In regard to MARPA's request to post service bulletins on the Department of Transportation's DMS, we are currently in the process of reviewing issues surrounding the posting of service bulletins on the DMS as part of an AD docket. Once we have thoroughly examined all aspects of this issue and have made a final determination, we will consider whether our current practice needs to be revised. No change to the final rule is necessary in response to this comment.

Request To Revise Specification of Replacement Parts

MARPA requests that we revisit the manner in which replacement parts are addressed in the NPRM. MARPA asserts that type certificate holders, particularly foreign manufacturers, almost universally ignore any possible parts approved under a parts manufacturer approval (PMA) while frequently specifying replacing a part with a part having a different part number as a corrective action in their service documents. MARPA contends that this runs afoul of 14 CFR 21.303 which permits development, certification, and installation of PMA parts. MARPA continues, stating that mandating only one part is not generally favored and can prevent installing perfectly good parts while prohibiting development of new parts as permitted under 14 CFR 21.303. MARPA expresses concern that this could change the basis of the AD, since prohibiting the development, sale and use of a perfectly airworthy part is an issue of economics rather than safety. MARPA contends that courts might construe such ADs as being outside their statutory basis and, as such, unenforceable; and therefore, as courts lack technical knowledge to rewrite specific portions of rules, the courts may simply void such rules. MARPA believes that identifying specifically numbered parts for installation should be only one of several methods of addressing the problem. MARPA continues, stating that this action, as written, also does not comply with proposed FAA Order 8040.2 which would permit the use of any PMA part and require including such parts in the applicability of the AD. MARPA states that other directorates have published ADs containing language permitting the use of “FAA-approved equivalent parts” or “airworthy parts,” and, because of these differences, the requirements of Executive Order 12866 for all agencies to act uniformly on a given issue are not being met. MARPA therefore requests that the NPRM be modified to consider and permit the use of PMA parts pursuant to existing laws and regulations.

We do not agree with this request. The NPRM did not address PMA parts as provided in draft FAA Order 8040.2, because the Order was only a draft that was out for comment at the time. After issuance of the NPRM, the Order was revised and issued as FAA Order 8040.5 with an effective date of September 29, 2006; however, FAA Order 8040.5 does not address PMA parts in ADs.

We acknowledge the need to ensure that unsafe PMA parts are identified and addressed in MCAI-related ADs. Further, the FAA recognizes the need for standardizing directorate policies and is currently in the process of reviewing issues that address the use of PMAs in ADs at the national level. Once we have made a final determination, we will consider how our policy regarding PMA parts in ADs needs to be revised. However, the Transport Airplane Directorate considers that to delay this particular AD action would be inappropriate, since we have determined that an unsafe condition exists and that replacement of certain parts must be accomplished to ensure continued safety. Therefore, no change has been made to the final rule in this regard.

Conclusion

We have carefully reviewed the available data, including the comments received, and determined that air safety and the public interest require adopting the AD with the changes described previously. We have determined that these changes will neither increase the economic burden on any operator nor increase the scope of the AD.

Costs of Compliance

This AD will affect about 165 airplanes of U.S. registry. The required actions will take about 2 work hours per airplane, at an average labor rate of $80 per work hour. The manufacturer states that it will supply required parts to the operators at no cost. Based on these figures, the estimated cost of the AD for U.S. operators is $26,400, or $160 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-02-21 Airbus: Amendment 39-14908. Docket No. FAA-2006-25891; Directorate Identifier 2006-NM-186-AD.

Effective Date

(a) This AD becomes effective March 2, 2007.

Affected ADs

(b) None.

Applicability

(c) This AD applies to Airbus Model A300 airplanes; and Model A300 B4-601, B4-603, B4-620, B4-622, B4-605R, B4-622R, F4-605R, F4-622R, and C4-605R Variant F airplanes; certificated in any category; except for airplanes on which Airbus Modification 12994 has been embodied in production.

Unsafe Condition

(d) This AD results from a report indicating that failure of the parking brake system occurred on a Model A300-600 airplane. We are issuing this AD to prevent failure of the parking brake system and interference with emergency use of the brake pedals, which could lead to airplane collision with surrounding objects or departure from the runway.

Compliance

(e) You are responsible for having the actions required by this AD performed within the compliance times specified, unless the actions have already been done.

Pressure Limiter Replacement

(f) Within 18 months after the effective date of this AD, replace the pressure limiter of the parking brake system with a new or modified pressure limiter having part number (P/N) C24264-303 or C24264004-1, as applicable, in accordance with the Accomplishment Instructions of the applicable service bulletin specified in Table 1 of this AD.

Table 1.—Airbus Service Information
For all model— | Use Airbus Service Bulletin— | Revision level— | Date—
A300 airplanes | A300-32-0448 | 01 | October 2, 2006.
A300 B4-601, B4-603, B4-620, B4-622, B4-605R, B4-622R, F4-605R, F4-622R, and C4-605R Variant F airplanes | A300-32-6094 | 01 | October 2, 2006.

Note 1: The Airbus service bulletins refer to Messier-Bugatti Service Bulletin C24264-32-848, dated February 15, 2006, as an additional source of service information for modifying the parking brake pressure limiter.

Actions Accomplished According to Previously Issued Service Information

(g) Actions accomplished before the effective date of this AD according to the applicable service bulletin specified in Table 2 of this AD are considered acceptable for compliance with the corresponding action specified in this AD.

Table 2.—Previously Issued Service Information
Model | Airbus Service Bulletin | Dated
A300 airplanes | A300-32-0448 | February 22, 2006.
A300 B4-601, B4-603, B4-620, B4-622, B4-605R, B4-622R, F4-605R, F4-622R, and C4-605R Variant F airplanes | A300-32-6094 | February 22, 2006.

Parts Installation

(h) As of the effective date of this AD, no person may install, on the parking brake system of any airplane, a pressure limiter having P/N C24264-302 or C24264004.

Alternative Methods of Compliance (AMOCs)

(i)(1) The Manager, International Branch, ANM-116, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) European Aviation Safety Agency (EASA) airworthiness directive 2006-0178, dated June 26, 2006, also addresses the subject of this AD.

Material Incorporated by Reference

(k) You must use the applicable service information specified in Table 3 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 3.—Material Incorporated by Reference
Airbus Service Bulletin | Revision level | Date
A300-32-0448 | 01 | October 2, 2006.
A300-32-6094 | 01 | October 2, 2006.

Issued in Renton, Washington, on January 12, 2007.
Ali Bahrami,
Manager, Transport Airplane Directorate, Aircraft Certification Service.

[FR Doc. E7-1079 Filed 1-25-07; 8:45 am]

BILLING CODE 4910-13-P